DEPARTMENT OF COMMERCE

Foreign-Trade Zones Board

[B-69-2018]

Foreign-Trade Zone (FTZ) 203—Moses Lake, Washington, Notification of Proposed Production Activity, Joyson Safety Systems Acquisition, LLC (Automotive Airbag Inflators and Propellants), Moses Lake, Washington

Joyson Safety Systems Acquisition, LLC (JSSA) submitted a notification of proposed production activity to the FTZ Board for its facility in Moses Lake, Washington. The notification conforming to the requirements of the regulations of the FTZ Board (15 CFR 400.22) was received on October 30, 2018.

JSSA already has authority to produce automotive airbag inflators and related propellants within Subzone 203A. The current request would add foreign status materials/components to the scope of authority. Pursuant to 15 CFR 400.14(b), additional FTZ authority would be limited to the specific foreign-status materials/components described in the submitted notification (as described below) and subsequently authorized by the FTZ Board.

Production under FTZ procedures could exempt JSSA from customs duty payments on the foreign-status materials/components used in export production. On its domestic sales, for the foreign-status materials/components noted below, JSSA would be able to choose the duty rates during customs entry procedures that apply to the finished products in the existing scope of authority. JSSA would be able to avoid duty on foreign-status components which become scrap/waste. Customs duties also could possibly be deferred or reduced on foreign-status production equipment.

The materials/components sourced from abroad include: Strontium tintinaite; cupric oxide; boron carbide; calcium stearate; guanidine nitrate; nitroguanidine; and, hybrid curtain inflator (HCI) bottles/bodies (metal cylinders) (duty rate ranges from duty-free 6.5%). The request indicates that certain materials/components are subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary at the address below. The closing period for their receipt is December 17, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: October 31, 2018.
Andrew McGilvray,
Executive Secretary.

[FR Doc. 2018-24341 Filed 11-6-18; 8:45 am]

BILLING CODE 3510-DS-P